DEPARTMENT OF ENERGY

Southeastern Power Administration

Georgia-Alabama-South Carolina System of Projects

AGENCY: Southeastern Power Administration, DOE.

ACTION: Notice of extension of time to present written comments.

SUMMARY: The period for submitting written comments on Southeastern's proposed rate adjustment is extended to June 19, 2012.

DATES: Written comments may be submitted until the close of business June 19, 2012.

ADDRESSES: Written comments should be submitted to: Kenneth E. Legg, Administrator, Southeastern Power Administration, Department of Energy, 1166 Athens Tech Road, Elberton, Georgia 30635-6711.

FOR FURTHER INFORMATION CONTACT: Virgil G. Hobbs, III, Assistant Administrator for Finance and Marketing Division, Southeastern Power Administration, Department of Energy, 1166 Athens Tech Road, Elberton, Georgia, 30635-6711 (706-213-3838).

SUPPLEMENTARY INFORMATION: On March 7, 2012, Southeastern published a Notice in the Federal Register at Vol. 77 FR 13594 that proposed new rate schedules to replace the current wholesale power schedules for the Georgia-Alabama-South Carolina System for a five-year period from October 1, 2012, to September 30, 2017. The Notice outlined a public comment process that included a public information and comment forum for the Georgia-Alabama-South Carolina customers and interested parties which was held in Atlanta, Georgia, on April 24, 2012. Pursuant to 10 CFR 903.14, the public information process provided that additional written comments would be due to Southeastern on or before June 5, 2012. The Georgia-Alabama-South Carolina customers, through their representatives, have requested an extension of the comment period from June 5, 2012, to close of business on June 19, 2012. The customers state that additional time is needed in order to review the extensive materials and information provided and developed at and after the forum and to allow sufficient time for such necessary review and preparation of informed comments regarding the new proposed rates. For the reasons stated above, and as provided for in 10 CFR 903.14, Southeastern hereby extends the period for submission of written comments to the close of business June 19, 2012.

Dated: May 31, 2012.
Herbert R. Nadler,
Acting Administrator.

[FR Doc. 2012-13925 Filed 6-7-12; 8:45 am]

BILLING CODE 6450-01-P